RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Employer Reporting; OMB 3220-0005

Under Section 9 of the Railroad Retirement Act (RRA), and section 6 of the Railroad Unemployment Insurance Act (RUIA), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR part 209.

The RRB currently utilizes Form G-88a.1, Notice of Retirement and Verification of Date Last Worked, Form G-88a.2, Notice of Retirement and Request for Service Needed for Eligibility, and Form AA-12, Notice of Death and Compensation, to obtain the required lag service and related information from railroad employers. Form G-88a.1 is a computer-generated listing sent by the RRB to railroad employers and used for the specific purpose of verifying information previously provided to the RRB regarding the date last worked by an employee. If the information is correct, the employer need not reply. If the information is incorrect, the employer is asked to provide corrected information. Form G-88a.2 is used by the RRB to secure lag service and compensation information when it is needed to determine benefit eligibility. Form AA-12 obtains a report of lag service and compensation from the last railroad employer of a deceased employee. This report covers the lag period between the date of the latest record of employment processed by the RRB and the date an employee last worked, the date of death or the date the employee may have been entitled to benefits under the Social Security Act. The information is used by the RRB to determine benefits due on the deceased employee's earnings record. No changes are proposed to Form G-88a.1, Form G-88a.2 or Form AA-12.

In addition, 20 CFR 209.12(b) requires all railroad employers to furnish the RRB with the home address of all employees hired within the last year (new-hires). Form BA-6a, BA-6 Address Report, is used by the RRB to obtain home address information of employees from railroad employers that do not have the home address information computerized and who submit the information in a paper format. The form also serves as an instruction sheet to railroad employers who submit the information electronically by magnetic tape, cartridge, or PC diskette. No changes are proposed to the approved Form BA-6a currently in use.

In accordance with the Government Paperwork Elimination Act (GPEA) of 1998, which directed Federal agencies to develop electronic service delivery instruments as an alternative to traditional paper-based processes, the RRB is proposing the addition of an Internet equivalent of current Form BA-6a, BA-6 Address Report, to the information collection.

The completion time for the Proposed Form G-88a.1 is estimated at 5 to 20 minutes. Form G-88a.2 is estimated at 5 minutes per response. The estimated completion time for Form AA-12 is 6½ minutes per response. The estimated completion time for Form BA-6a is 10 to 30 minutes. Completion is mandatory. The RRB estimates that approximately 800 Form AA-12's, 400 Form G-88a.1's, 1,200 Form G-88a.2's and 900 Form BA-6a's are completed annually.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 03-12930 Filed 5-22-03; 8:45 am]

BILLING CODE 7905-01-M